DEPARTMENT OF THE TREASURY

Office of Foreign Assets Control

Sanctions Actions Pursuant to Executive Order 13667

AGENCY: Office of Foreign Assets Control, Treasury.

ACTION: Notice.

SUMMARY: The Treasury Department's Office of Foreign Assets Control (OFAC) is publishing the names of two individuals whose property and interests in property are blocked pursuant to Executive Order (E.O.) 13667 and whose names have been added to OFAC's list of Specially Designated Nationals and Blocked Persons (SDN List).

DATES: OFAC's actions described in this notice were effective August 23, 2016.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic and Facsimile Availability

The SDN List and additional information concerning OFAC sanctions programs are available from OFAC's Web site (www.treasury.gov/ofac).

Notice of OFAC Actions

On August 23, 2016, OFAC blocked the property and interests in property of the following individuals pursuant to E.O. 13667, “Blocking Property of Certain Persons Contributing to the Conflict in the Central African Republic”:

1. KONY, Ali (a.k.a. BASHIR, Ali Lalobo; a.k.a. KAPERE, Otim; a.k.a. KONY, Ali Mohammed; a.k.a. LABOLA, Ali Mohammed; a.k.a. LABOLO, Ali Mohammad; a.k.a. LALOBO, Ali; a.k.a. LALOBO, Ali Bashir; a.k.a. LALOBO, Ali Mohammed; a.k.a. SALONGO, Ali Mohammed; a.k.a. “1-P”; a.k.a. “Bashir”; a.k.a. “Caesar”; a.k.a. “MOHAMMED, Ali”; a.k.a. “One-P”), Kafia Kingi; DOB 1994; alt. DOB 1995; alt. DOB 1993; alt. DOB 1992 (individual) [CAR] (Linked To: KONY, Joseph; Linked To: LORD'S RESISTANCE ARMY).

2. KONY, Salim (a.k.a. KONY, Salim Saleh; a.k.a. OBOL, Simon Salim; a.k.a. OGARO, Salim; a.k.a. OGARO, Salim Saleh Obol; a.k.a. SALEH, Salim; a.k.a. SALIM, Okolu), Kafia Kingi; Central African Republic; DOB 1992; alt. DOB 1991; alt. DOB 1993 (individual) [CAR] (Linked To: KONY, Joseph; Linked To: LORD'S RESISTANCE ARMY).

Dated: August 23, 2016.
Andrea M. Gacki,
Acting Director, Office of Foreign Assets Control.

[FR Doc. 2016-20583 Filed 8-26-16; 8:45 am]

BILLING CODE 4810-AL-P